DEPARTMENT OF AGRICULTURE

Rural Utilities Service

[Docket No. RUS-22-WATER-0047]

60-Day Notice of Proposed Information Collection: Emergency and Imminent Community Water Assistance Grants; OMB Control No. 0572-0110

AGENCY: Rural Utilities Service, Agriculture (USDA).

ACTION: Notice and request for comments.

SUMMARY: In accordance with the Paperwork Reduction Act of 1995 the Rural Utilities Service (RUS) invites comments on this information collection for which approval from the Office of Management and Budget (OMB) will be requested.

DATES: Comments on this notice must be received by September 19, 2022 to be assured of consideration.

ADDRESSES: Comments may be submitted electronically by the Federal eRulemaking Portal: Go to https://www.regulations.gov and, in the “Search Field” box, labeled “Search for Rules, Proposed Rules, Notices or Supporting Documents,” enter the following docket number: (RUS-22-WATER-0047). To submit or view public comments, click the “Search” button, select the “Documents” tab, then select the following document title: (60-Day Notice of Proposed Information Collection: Broadband Grant Program; OMB Control No.: 0572-0110) from the “Search Results” and select the “Comment” button. Before inputting your comments, you may also review the “Commenter's Checklist” (optional). Insert your comments under the “Comment” title, click “Browse” to attach files (if available). Input your email address and select “Submit Comment.”

Information on using Regulations.gov, including instructions for accessing documents, submitting comments, and viewing the docket after the close of the comment period, is available through the site's “FAQ” link.

Other Information: Additional information about Rural Development and its programs is available on the internet at https://www.rd.usda.gov.

All comments will be available for public inspection online at the Federal eRulemaking Portal (https://www.regulations.gov).

FOR FURTHER INFORMATION CONTACT: Kimble Brown, Rural Development Innovation Center—Regulations Management Division, U.S. Department of Agriculture, 1400 Independence Avenue SW, Washington, DC 20250, Telephone: 202-720-6780, Email: Kimble.Brown@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for an extension.

Title: Emergency and Imminent Community Water Assistance Grants, 7 CFR 1778.

OMB Control Number: 0572-0110.

Type of Request: Extension of a currently approved information collection.

Abstract: Rural Utilities Service (RUS), an agency delivering the U.S. Department of Agriculture (USDA) administers Emergency and Imminent Community Water Assistance Grants pursuant to 7 CFR 1778 and awards grants to qualified rural communities that have experienced a significant decline in quality or quantity of water or expect such a decline to be imminent. Grants under this RUS program may be made to public bodies and private nonprofit corporations serving rural areas. Public bodies include counties, cities, townships, incorporated towns and villages, boroughs, authorities, districts, and other political subdivisions of a state. Public bodies also include Indian Tribes on Federal and State reservations and other Federally-recognized Indian tribal groups in rural areas. Applicants will provide information to be collected as part of the application and grant process through documentation, certifications, or completed application forms. These procedures are codified at 7 CFR part 1778.

Estimate of burden: Public reporting for this collection of information is estimated to average 6.86 hours per response.

Respondents: Public bodies; not-for-profit institutions; federally-recognized tribes and tribal organizations.

Estimated Number of Respondents: 49.

Estimated Number of Responses per Respondent: 1.

Estimated Total Annual Burden on Respondents: 3,173 hours.

Comments are invited on:

(a) Whether this collection of information is necessary for the proper performance of the functions of the Agency, including whether the information will have practical utility;

(b) the accuracy of the Agency's estimate of the burden of the proposed collection of information including the validity of the methodology and assumptions used;

(c) ways to enhance the quality, utility, and clarity of the information to be collected; and

(d) ways to minimize the burden of the collection of information on respondents, including through the use of appropriate automated, electronic, mechanical, or other technological collection techniques or other forms of information technology.

Copies of this information collection can be obtained from Kimble Brown, Rural Development Innovation Center—Regulations Management Division, at (202) 720-6780. Email: kimble.brown@usda.gov.

All responses to this notice will be summarized and included in the request for OMB approval. All comments will also become a matter of public records.

Christopher A. McLean,
Acting Administrator, Rural Utilities Service.

[FR Doc. 2022-15379 Filed 7-18-22; 8:45 am]

BILLING CODE 3410-15-P